ENVIRONMENTAL PROTECTION AGENCY

[ER-FRL-6666-3]

Environmental Impacts Statements; Notice of Availability

Responsible Agency: Office of Federal Activities, General Information (202) 564-7167 or http://www.epa.gov/compliance/nepa/

Weekly receipt of Environmental Impact Statements

Filed 8/1/2005 Through 8/5/2005

Pursuant to 40 CFR 1506.9.

EIS No. 20050325, Draft EIS, AFS, WV, Programmatic—Monongahela National Forest Plan Revision, Proposes to Revise Land and Resource Management Plan, Barbour, Grant, Greebrier, Nicholas, Pendleton, Pocahontab, Preston, Randolph, Tucker, Webster Counties, WV, Comment Period Ends: 09/26/2005, Contact: Clyde Thompson 304-636-1800

EIS No. 20050326, Final EIS, AFS, CA, Burlington Ridge Trails Project, To Eliminate, Reconstruct/or Reroute Unsound Trail Sections, Tahoe National Forest, Yuba River Ranger District, Camptonville, Nevada County, CA, Wait Period Ends: 09/26/2005, Contact: Mary Furney 530-478-6263

EIS No. 20050327, Final EIS, AFS, CO, County Line Vegetation Management Project, Salvaging Spruce Beetle Infected Trees and Thinning Spruce-Fir Stand, Rio Grande National Forest, Conejos Peak Ranger District, Conejos County, CO, Wait Period Ends: 09/12/2005, Contact: John Murphy 719-852-5941

EIS No. 20050328, Draft EIS, FHW, LA, US 90 Corridor, Proposed Interstate Highway 49 (I49 ) South Improvement from Raceland to the Davis Pond Diversion Canal, Section of Independent Utility 1 (SIU 1), Lafourche and St. Charles Parishes, LA, Comment Period Ends: 09/30/2005, Contact: William C. Farr 225-757-7615

EIS No. 20050329, Final EIS, NPS, ID, Craters of the Moon National Monument and Preserve, Update and Consolidate Management Plans, into One Comprehensive Plan, Snake River Plain, Butte, Blaine, Lincoln, and Minidoka Counties, ID, Wait Period Ends: 09/12/2005, Contact: Adrienne Anderson 303-987-6730

EIS No. 20050330, Final EIS, AFS, 00, Black-Tailed Prairie Dog Conservation and Management on the Nebraska National Forest and Associated Units, Implementation, Dawes, Sioux Blaine, Cherry, Thomas Counties, NE and Custer, Fall River, Jackson, Pennington, Jones, Lyman, Stanley Counties, SD, Wait Period Ends:, 09/12/2005 Contact: Jeffrey S. Abegglen 308-432-4475

EIS No. 20050331, Final EIS, COE, TX, Programmatic—Lower Colorado River Basin Study, Provide Flood Damage Reduction and Ecosystem Restoration, Colorado River, TX, Wait Period Ends: 09/12/2005, Contact: Rob Newman 817-886-1762

EIS No. 20050332, Final EIS, AFS, AK, Couverden Timer Sales, Harvesting Timber, NPDES, Coast Guard Bridge Permit, U.S. Army COE Section 10 and 404 Permits, Tongass National Forest, Juneau Ranger District, Chilkat Peninsula, AK, Wait Period Ends: 09/12/2005, Contact: Dave Carr 907-790-7402

Amended Notices

EIS No. 20050209, Draft EIS, NPS, WY, Grand Teton National Park Transportation Plan, Implementation, Grand Teton National park, Teton County, WY, Comment Period Ends: 08/25/2005, Contact: Adrienne Anderson 303-987-6730 Revision of FR Notice Published on 06/03/2005: Extending the Comment Period from 08/01/2005 to 08/25/2005.

Dated: August 9, 2005.
Robert W. Hargrove,
Director, NEPA Compliance Division, Office of Federal Activities.

[FR Doc. 05-16036 Filed 8-11-05; 8:45 am]

BILLING CODE 6560-50-P